GENERAL SERVICES ADMINISTRATION

48 CFR Part 505

[GSAR Case 2008-G503; Docket 2008-0007; Sequence 18]

RIN 3090-AI71

General Services Acquisition Regulation; GSAR Case 2008-G503; Rewrite of GSAR Part 505, Publicizing Contract Actions

AGENCY: Office of the Chief Acquisition Officer, General Services Administration (GSA).

ACTION: Proposed rule.

SUMMARY: The General Services Administration (GSA) is proposing to amend the General Services Acquisition Regulation (GSAR) to revise language that provides requirements for publicizing contract actions.

DATES: Interested parties should submit written comments to the Regulatory Secretariat on or before November 17, 2008 to be considered in the formulation of a final rule.

ADDRESSES: Submit comments identified by GSAR Case 2008-G503 by any of the following methods:

• Regulations.gov: http://www.regulations.gov. Submit comments via the Federal eRulemaking portal by inputting “GSAR Case 2008-G503” under the heading “Comment or Submission”. Select the link “Send a Comment or Submission” that corresponds with GSAR Case 2008-G503. Follow the instructions provided to complete the “Public Comment and Submission Form”. Please include your name, company name (if any), and “GSAR Case 2008-G503” on your attached document.

• Fax: 202-501-4067.

• Mail: General Services Administration, Regulatory Secretariat (VPR), 1800 F Street, NW, Room 4041, ATTN: Laurieann Duarte, Washington, DC 20405.

Instructions: Please submit comments only and cite GSAR Case 2008-G503 in all correspondence related to this case. All comments received will be posted without change to http://www.regulations.gov, including any personal and/or business confidential information provided.

FOR FURTHER INFORMATION CONTACT For clarification of content, contact Ms. Cecelia Davis at (202) 219-0202. For information pertaining to the status or publication schedules, contact the Regulatory Secretariat (VPR), Room 4041, GS Building, Washington, DC 20405, (202) 501-4755. Please cite GSAR Case 2008-G503.

SUPPLEMENTARY INFORMATION:

A. Background

The General Services Administration (GSA) is amending the General Services Administration Acquisition Regulation (GSAR) to update the text addressing GSAR 505 Publicizing Contract Actions, Subpart 505.1 Dissemination of Information, Subpart 505.2 Synopses of Proposed Contract Actions, and 505.5 Paid Advertisements. This rule is a result of the General Services Administration Acquisition Manual (GSAM) Rewrite initiative undertaken by GSA to revise the GSAM to maintain consistency with the FAR and implement streamlined and innovative acquisition procedures that contractors, offerors, and GSA contracting personnel can utilize when entering into and administering contractual relationships. The GSAM incorporates the General Services Administration Acquisition Regulation (GSAR) as well as internal agency acquisition policy.

GSA will rewrite each part of the GSAR and GSAM, and as each GSAR part is rewritten, will publish it in the Federal Register.

This rule covers the GSAR portion of Part 505. Currently, Subparts 505.1, 505.2 and 505.5 are identified as “shaded” for regulatory coverage; however, the agency has deemed, during the rewrite process, these Subparts as non-regulatory because the coverage addresses internal agency acquisition policy. These Subparts have been revised and will be moved to the non-regulatory portion of the GSAM.

There were no public comments received in response to the Advanced Notice of Proposed Rulemaking published in the Federal Register at 71 FR 7910, February 15, 2006.

This is not a significant regulatory action and, therefore, was not subject to review under Section 6(b) of Executive Order 12866, Regulatory Planning and Review, dated September 30, 1993. This rule is not a major rule under 5 U.S.C. 804.

B. Regulatory Flexibility Act

The General Services Administration does not expect this proposed rule to have a significant economic impact on a substantial number of small entities within the meaning of the Regulatory Flexibility Act, 5 U.S.C. 601, et seq., because the revisions are not considered substantive. The revisions only update and reorganize existing coverage. An Initial Regulatory Flexibility Analysis has, therefore, not been performed. We invite comments from small businesses and other interested parties. GSA will consider comments from small entities concerning the affected GSAR Part 505 in accordance with 5 U.S.C. 610. Interested parties must submit such comments separately and should cite 5 U.S.C. 601, et seq. (GSAR case 2008-G503), in correspondence.

C. Paperwork Reduction Act

The Paperwork Reduction Act does not apply because the proposed changes to the GSAM do not impose information collection requirements that require the approval of the Office of Management and Budget under 44 U.S.C. 3501, et seq.

List of Subjects in 48 CFR Part 505

Government procurement.

Dated: August 27, 2008.
Al Matera,
Director, Office of Acquisition Policy.

Therefore, under the authority of 40 U.S.C. 121(c), GSA proposes to remove 48 CFR part 505.

PART 505—[REMOVED]

[FR Doc. E8-21121 Filed 9-15-08; 8:45 am]

BILLING CODE 6820-61-S